DEPARTMENT OF TRANSPORTATION

Federal Aviation Administration

Notice of Intent To Rule on Application (#02-01-C-00-WRL) To Impose and To Use a Passenger Facility Charge (PFC) at the Worland Municipal Airport, Submitted by the City of Worland, WY

AGENCY: Federal Aviation Administration (FAA), DOT.

ACTION: Notice of intent to rule on application.

SUMMARY: The FAA proposes to rule and invites public comment on the application to impose and to use a PFC at the Worland Municipal Airport under the provisions of 49 U.S.C. 40117 and part 158 of the Federal Aviation Regulations (14 CFR 158).

DATES: Comments must be received on or before September 5, 2002.

ADDRESSES: Comments on this application may be mailed or delivered in triplicate to the FAA at the following address: Alan Wiechmann, Manager, Denver Airports District Office, DEN-ADO; Federal Aviation Administration; 26805 E. 68th Avenue, Suite 224; Denver, CO 80249-6361.

In addition, one copy of any comments submitted to the FAA must be mailed or delivered to Mr. Gary J. Thompson, Airport Manager, at the following address: Worland Municipal Airport, PO Box 606, Worland, Wyoming 82401.

Air Carriers and foreign air carriers may submit copies of written comments previously provided to the City of Worland, under section 158.23 of Part 158.

FOR FURTHER INFORMATION CONTACT: Mr. Christopher Schaffer, (303) 342-1258; Denver Airports District Office, DEN-ADO; Federal Aviation Administration; 26805 E. 68th Avenue, Suite 224; Denver, CO 80249-6361. The application may be reviewed in person at this same location.

SUPPLEMENTARY INFORMATION: The FAA proposes to rule and invites public comment on the application (02-01-C-00-WRL) to impose and to use a PFC at the Worland Municipal Airport, under the provisions of 49 U.S.C. 40117 and part 158 of the Federal Aviation Regulations (24 CFR part 158).

On July 30, 2002, the FAA determined that the application to impose and to sue a PFC submitted by the City of Worland, Wyoming, was substantially complete within the requirements of section 158.25 of part 158. The FAA will approve or disapprove the application, in whole or in part, no later than November 5, 2002.

The following is a brief overview of the application.

Level of the proposed PFC: $4.50.

Proposed charge effective date: October 1, 2002.

Proposed charge expiration date: October 1, 2026.

Total requested for use approval: $334,250.00.

Brief description of proposed projects: Rehabilitate and shift Runway 16/34; Preliminary design engineering for runway extension, road and canal relocation; Acquisition of land for runway extension and land use protection; and Relocation of obstructions.

Class or classes of air carriers, which the public agency has requested not be required to collect PFC's: None.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the application in person at the Worland Municipal Airport.

Issued in Renton, Washington on July 30, 2002.
David A. Field.
Manager, Planning, Programming and Capacity Branch, Northwest Mountain Region.

[FR Doc. 02-19854 Filed 8-5-02; 8:45 am]

BILLING CODE 4910-13-M